NUCLEAR REGULATORY COMMISSION

Consolidated Guidance About Materials Licenses: Program-Specific Guidance About Well Logging, Tracer, and Field Flood Study Licenses

AGENCY: Nuclear Regulatory Commission (NRC).

ACTION: Notice of availability.

SUMMARY: The Nuclear Regulatory Commission (NRC) is announcing the availability of the final NUREG-1556, Volume 14, “Consolidated Guidance about Materials Licenses: Program-Specific Guidance about Well Logging, Tracer, and Field Flood Study Licenses,” dated June 2000. This final NUREG report is the 14th program-specific guidance document developed to support an improved material licensing process. NRC is using Business Process Redesign (BPR) techniques to redesign its material licensing process, as described in NUREG-1539, “Methodology and Findings of the NRC's Materials Licensing Process Redesign.” A critical element of the new process is consolidating and updating numerous guidance documents into a NUREG-series of reports.

This final guide has been developed in parallel with the final revision of 10 CFR Part 39, “Energy Compensation Sources for Well Logging and Other Regulatory Clarifications,” published as a Final Rule on April 17, 2000 (65 FR 20337). It is intended for use by applicants, licensees, NRC license reviewers, and other NRC personnel.

This final report takes a more risk-informed, performance-based approach to licensing of well logging, tracer, and field flood study operations, and reduces the information (amount and level of detail) needed to support an application to use these devices.

A free single copy of final NUREG-1556, Volume 14, may be requested by writing to the U.S. Nuclear Regulatory Commission, ATTN: Mrs. Carrie Brown, Mail Stop TWFN 9-C24, Washington, DC 20555-0001. Alternatively, submit requests through the Internet by addressing electronic mail to cxb@nrc.gov. A copy of final NUREG-1556, Volume 14, is also available for inspection and/or copying for a fee in the NRC Public Document Room, 2120 L Street, NW. (Lower Level), Washington, DC 20555-0001.

FOR FURTHER INFORMATION, CONTACT: Mrs. Carrie Brown, Mail Stop TWFN 9-C24, Division of Industrial and Medical Nuclear Safety, Office of Nuclear Material Safety and Safeguards, U.S. Nuclear Regulatory Commission, Washington, DC 20555, telephone (301) 415-8092; electronic mail address: cxb@nrc.gov.

Electronic Access

Final NUREG-1556, Vol. 14 is available electronically by visiting NRC's Home Page (http://www.nrc.gov/NRC/nucmat.html).

Dated at Rockville, Maryland, this 13th day of July, 2000.
For the Nuclear Regulatory Commission.
Catherine Haney,
Acting Chief, Rulemaking and Guidance Branch, Division of Industrial and Medical Nuclear Safety, NMSS.

[FR Doc. 00-18428 Filed 7-19-00; 8:45 am]

BILLING CODE 7590-01-P